DEPARTMENT OF THE INTERIOR

National Park Service

Concession Contracts and Permits; Extension of Expiring Contracts for Up to One Year

AGENCY: National Park Service, Interior.

ACTION: Public Notice.

SUMMARY: Pursuant to the terms of existing concession permits, with the exception of construction on National Park Service lands, public notice is hereby given that the National Park Service intends to provide visitor services under the authority of a temporary concession contract with a term of up to one year from the date of permit expirations.

SUPPLEMENTARY INFORMATION: The permit listed below has been extended to the maximum allowable under 36 CFR 51.23. Under the provisions of the current concession permit, with one exception, and pending the development and public solicitation of a prospectus for a new concession permit, the National Park Service authorizes continuation of visitor services under a temporary concession contract for a period of up to one year from the expiration of the current concession permit. The exception precludes construction on National Park Service lands, regardless of whether the current permit authorizes such activity, the temporary contract does not affect any rights with respect to selection for award of a new concession contract.

Concessioner ID No. | Concessioner name | Park
DEWA002 | BACKAT, Inc | Delaware Water Gap National Recreation Area.

EFFECTIVE DATE: January 2, 2002.

FOR FURTHER INFORMATION CONTACT: Cynthia Orlando, Concession Program Manager, National Park Service, Washington, DC, 20240, Telephone, 202/565-1210.

Dated: February 6, 2002.
Charles W. Mayo,
Acting Associate Director, Park Operations and Education.

[FR Doc. 02-8580 Filed 4-9-02; 8:45 am]

BILLING CODE 4310-70-P